DEPARTMENT OF COMMERCE

Bureau of the Census

Census Scientific Advisory Committee

AGENCY: Bureau of the Census, Department of Commerce.

ACTION: Notice of public meeting.

SUMMARY: The Bureau of the Census (U.S. Census Bureau) is giving notice of a meeting of the Census Scientific Advisory Committee (C-SAC). The C-SAC will meet in a plenary session from September 19-20, 2013. The Committee will address policy, research, and technical issues relating to a full range of Census Bureau programs and activities, including communications, decennial, demographic, economic, field operations, geographic, information technology, and statistics. Last minute changes to the agenda are possible, which could prevent giving advance public notice of schedule adjustments.

DATES: September 19 and 20, 2013. On September 19, the Census Scientific Advisory Committee meeting will begin at approximately 8:45 a.m. and adjourn at approximately 4:35 p.m. On September 20, the meeting will begin at approximately 8:45 a.m. and adjourn at approximately 12:45 p.m.

ADDRESSES: The meeting will be held at the U.S. Census Bureau Conference Center, 4600 Silver Hill Road, Suitland, Maryland 20746.

FOR FURTHER INFORMATION CONTACT: Jeri Green, Committee Liaison Officer, Department of Commerce, U.S. Census Bureau, Room 8H182, 4600 Silver Hill Road, Washington, DC 20233, telephone 301-763-6590. For TTY callers, please use the Federal Relay Service 1-800-877-8339.

SUPPLEMENTARY INFORMATION: Members of the C-SAC are appointed by the Director, U.S. Census Bureau. The Committee provides scientific and technical expertise, as appropriate, to address Census Bureau program needs and objectives. The Committee has been established in accordance with the Federal Advisory Committee Act (Title 5, United States Code, Appendix 2, Section 10).

The meeting is open to the public, and a brief period is set aside for public comments and questions on September 20, 2013. Persons with extensive questions or statements must submit them in writing at least three days before the meeting to the Committee Liaison Officer named above. If you plan to attend the meeting, please register by Thursday, September 5, 2013. You may access the online registration form with the following link: (http://www.regonline.com/csacsep2013). Seating is available to the public on a first-come, first-served basis.

This meeting is physically accessible to people with disabilities. Requests for sign-language interpretation or other auxiliary aids should also be directed to the Committee Liaison Officer as soon as known, and preferably two weeks prior to the meeting.

Due to increased security and for access to the meeting, please call 301-763-9906 upon arrival at the Census Bureau on the day of the meeting. A photo ID must be presented in order to receive your visitor's badge. Visitors are not allowed beyond the first floor.

Topics to be discussed include the following items:

• Reassessment of the 2020 Census.

• American Community Survey Questionnaire Review.

• Cyberinfrastructure and Adaptive Design Working Groups.

• Data Dissemination Transformation.

• National Address Database.

• Administrative Records.

• Impact of DOMA Ruling on Census Data Collection.

• 2013 Census Test.

Dated: August 8, 2013.
Nancy A. Potok,
Deputy Director, Bureau of the Census.

[FR Doc. 2013-19843 Filed 8-14-13; 8:45 am]

BILLING CODE 3510-07-P